OFFICE OF PERSONNEL MANAGEMENT

5 CFR Part 550

RIN 3206-AN83

Attorney Fees and Personnel Action Coverage Under the Back Pay Act

AGENCY: Office of Personnel Management.

ACTION: Withdrawal of proposed rule.

SUMMARY: The Office of Personnel Management is withdrawing a proposed rule published on October 7, 2020. The notice of proposed rulemaking, inter alia, proposed revising OPM's regulations governing the coverage of, and attorney fee awards under, the Back Pay Act. OPM withdrew the proposed rule on March 12, 2021, but issues this clarification reiterating that the proposed rule is withdrawn.

DATES: As of July 15, 2025, OPM withdraws the proposed rule published October 7, 2020 (85 FR 63218), which was withdrawn from the regulatory agenda on March 12, 2021.

ADDRESSES: The docket for this withdrawn rule is available at https://www.regulations.gov/docket/OPM-2025-0041.

FOR FURTHER INFORMATION CONTACT: Carey Jones by email at paypolicy@opm.gov or by telephone at 202-606-2858.

SUPPLEMENTARY INFORMATION: On October 7, 2020, the Office of Personnel Management (OPM) published a notice of proposed rulemaking (NPRM or proposed rule) titled “Attorney Fees and Personnel Action Coverage Under the Back Pay Act” in the Federal Register (“2020 NPRM”). See 85 FR 63218. The 2020 NPRM proposed to revise OPM's regulations governing the coverage of, and attorney fee awards under, the Back Pay Act. The proposed regulations would have added a definition of “employee's personal representative” for purposes of the payment of attorney fees. The rule also would have clarified the actions qualifying for back pay, added a definition of “personnel action,” and revised the definition of “unjustified or unwarranted personnel action.”

In response to the 2020 NPRM, OPM received approximately 38 comments during the 30-day comment period which ended on November 6, 2020. Some commenters raised significant legal and policy concerns with the proposal. The comments received raised a number of issues that warrant further attention and suggest that OPM should further assess the best regulatory approach.

On March 12, 2021, OPM withdrew its 2020 NPRM from its regulatory agenda (see https://www.reginfo.gov/public/do/eAgendaViewRule?pubId=202104&RIN=3206-AN83) to pursue other agency priorities. Nevertheless, in an abundance of caution, OPM hereby clarifies that the 2020 NPRM is withdrawn. OPM continues to consider the best means of addressing some or all of the issues addressed in the 2020 NPRM. OPM believes that it would benefit from seeking comments on any new proposal that might account for the specific issues raised in the comments received; accordingly, OPM plans to issue a new proposal under a new RIN.

Jerson Matias,
Federal Register Liaison. Office of Personnel Management.

[FR Doc. 2025-13205 Filed 7-14-25; 8:45 am]

BILLING CODE 6325-39-P